COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Dates: January 12, 2015.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 10/10/2014 (79 FR 61296) and 11/7/2014 (79 FR 66363), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

Laminating Pouch, Thermal

NSN: 9330-00-NIB-0003—3 Mil Thickness, Letter size, 100/BX

NSN: 9330-00-NIB-0004—3 Mil Thickness, Letter size, 25/BX

NSN: 9330-00-NIB-0005—3 Mil Thickness, Letter size, 50/BX

NSN: 9330-00-NIB-0007—5 Mil Thickness, Letter size, 100/BX

NPA: LC Industries, Inc., Durham, NC

Contracting activity: General Services Administration, Fort Worth, TX

Coverage: A-List for the Total Government Requirement as aggregated by the General Services Administration, Fort Worth, TX.

Services

Service Type/Location: Internal Mail and Messenger Service, U.S. Department of State, Harry S. Truman Building, 2201 C Street NW., Washington, DC

NPA: ServiceSource, Inc., Alexandria, VA

Contracting Activity: Department of State, Office of Acquisition Management—MA, Arlington, VA

Service Type/Location: Custodial Service, US Army Engineer District, Wilmington District, Engineer Repair Yard, 232 Battleship Road, Wilmington, NC

NPA: Coastal Enterprises of Jacksonville, Inc., Jacksonville, NC.

Contracting Activity: Dept of the Army, W074 Endist Wilmington, Wilmington, NC.

Barry S. Lineback,
Director, Business Operations.

[FR Doc. 2014-29171 Filed 12-11-14; 8:45 am]

BILLING CODE 6353-01-P